DEPARTMENT OF DEFENSE

Department of the Navy

Notice of Public Hearings and Extension of Public Comment Period for the Draft Environmental Impact Statement (DEIS) for the Shock Trial of the WINSTON S. CHURCHILL (DDG 81)

AGENCY: Department of the Navy, DOD.

ACTION: Notice.

SUMMARY: The Department of the Navy (DON) has prepared and filed with the U.S. Environmental Protection Agency (EPA) a DEIS evaluating the environmental effects for the shock trial of the WINSTON S. CHURCHILL (DDG 81) at a site to be located offshore of either Norfolk, Virginia, Mayport, Florida, or Pascagoula, Mississippi. The DON is the lead agency and the National Marine Fisheries Service (NMFS) is a cooperating agency in the development of the DEIS. The comment period, previously announced in the Federal Register on December 10, 1999 (64 FR 69267) has been extended. This notice announces the dates and locations for the three public hearings and the extension of the public review period. Public hearings will be held in order to receive oral and written comments on the DEIS. Federal, state and local agencies, and interested individuals are invited to be present or represented at the hearings.

DATES AND ADDRESSES: The public hearings will be jointly hosted by the DON and the NMFS. The hearings have been scheduled as follows:

1. March 13, 2000, 7:00 PM, Granby High School Auditorium, 7101 Granby Street, Norfolk, Virginia.

2. March 14, 2000, 7:00 PM, Pensacola Junior College, Hagler Auditorium, 1000 College Boulevard, Pensacola, Florida.

3. March 15, 2000, 7:00 PM, Fletcher High School Auditorium, 700 Seagate Avenue, Neptune Beach, Florida.

FOR FURTHER INFORMATION CONTACT: Ms. Lyn Carroll, Marconi Systems Technologies, 2611 Jefferson Davis Highway, Suite 5000, Arlington, Virginia 22202, telephone (703) 413-4099 or e-mail address at ddg81eis@tst.tracor.com.

SUPPLEMENTARY INFORMATION: Per Section 102(2)(c) of the National Environmental Policy Act of 1969 as implemented by the Council on Environmental Quality regulations (40 CFR Parts 1500-1508), the DON has prepared and filed with the EPA a DEIS evaluating the environmental effects for the shock trial of the WINSTON S. CHURCHILL (DDG 81), at a site to be located offshore of either Norfolk, Virginia, Mayport, Florida, or Pascagoula, Mississippi. The DON is the lead agency and the NMFS is a cooperating agency in the development of the DEIS. The NMFS is concurrently evaluating the DON's request for a Letter of Authorization for the Incidental Take of Marine Mammals in their regulatory role under the Marine Mammal Protection Act.

A Notice of Availability for the DEIS appeared in the Federal Register on December 10, 1999 (64 FR 69267). That Notice stated that comments on the DEIS were due by January 24, 2000. The DON is extending the public comment period to March 31, 2000. All written comments should be postmarked no later than that date. This comment period is expected to coincide with the NMFS comment period provided in its Advance Notice of Proposed Rule (ANPR) on the DON'S application for the taking of marine mammals incidental to the proposed shock trial of the WINSTON S. CHURCHILL. The NMFS will provide details on the ANPR by separate notice in the Federal Register.

The DON will conduct three public hearings to receive oral and written comments concerning the DEIS and the ANPR. A brief presentation will precede a request for public information and comments. DON representatives will be available at each hearing to receive information and comments from agencies and the public regarding issues of concern. Federal, state, and local agencies and interested parties are invited and urged to be present or represented at the hearings. Those who intend to speak will be asked to submit a speaker card (available at the door). Oral comments will be heard and transcribed by a stenographer. To assure accuracy of the record, all statements should be submitted in writing. All statements, both oral and written, will become part of the public record in the study. Equal weight will be given to both oral and written comments. In the interest of available time, each speaker will be asked to limit oral comments to three minutes. Longer comments should be summarized at the public hearings and submitted in writing either at the hearing or mailed to Ms. Lyn Carroll (see address below).

The DEIS has been distributed to various federal, state, and local agencies, elected officials, and special interest groups and public libraries. The DEIS is available for public review at the following libraries:

—Beaches Branch Library, Jacksonville Public Libraries, 600 3rd Street, Neptune Beach, Florida.

—Center for Naval Analysis, The Library, 4401 Ford Avenue, Alexandria, Virginia.

—Main Library, Norfolk Public Library, 301 East City Hall Avenue, Norfolk, Virginia.

—Main Library, Jacksonville Public Libraries, 122 North Ocean Street, Jacksonville, Florida.

—Main Library, Pascagoula Public Library, 3214 Pascagoula Street, Pascagoula, Mississippi.

—Main Library, Pensacola Public Library/West Florida Regional Library, 200 W. Gregory Street, Pensacola, Florida.

—Pell Marine Science Library, University of Rhode Island, Narragansett Bay Campus, Narragansett, Rhode Island.

—SIO Library Mono, Scripps Inst of Oceanography, 9500 Gilman Drive, La Jolla, California.

—St. Mary's Public Library, 100 Herb Bauer Drive, St. Mary's, Georgia.

—University of Southhampton, National Oceanographic Library, Express Dock, Southhampton, United Kingdom.

Dated: January 20, 2000.
J.L. Roth,
Lieutenant Commander, Judge Advocate General's Corps, U.S. Navy, Federal Register Liaison Officer.

[FR Doc. 00-1802 Filed 1-25-00; 8:45 am]

BILLING CODE 3810-FF-P